DEPARTMENT OF COMMERCE

National Oceanic and Atmospheric Administration

50 CFR Part 635

[I.D. 072704A]

Atlantic Highly Migratory Species; Atlantic Commercial Shark Management Measures; Rescheduling of Public Hearings

AGENCY: National Marine Fisheries Service (NMFS), National Oceanic and Atmospheric Administration (NOAA), Commerce.

ACTION: Rescheduling of public hearings.

SUMMARY: NMFS is concerned about a lack of participation by commercial shark fishermen in three public hearings for a proposed rule that was published in the Federal Register on September 17, 2004, because of an overlap between the dates of the hearings and the commercial shark fishing season. These hearings are being held to receive comments from fishery participants and other members of the public regarding proposed shark regulations.

DATES: The hearings scheduled for September 28, 2004, in Manteo, NC, September 29 in Cocoa Beach, FL, and September 30 in Madeira Beach, FL, are canceled. The public hearings are rescheduled for October 5, 2004, from 7-9 p.m. in Madeira Beach, FL; October 6, 2004, from 6:30-8:30 p.m. in Cocoa Beach, FL; and October 7, 2004, from 7-9 p.m. in Manteo, NC.

Written comments on the September 17, 2004, proposed rule (69 FR 56024) must be received no later than 5 p.m. on October 18, 2004.

ADDRESSES: The public hearings will be held at the following locations:

1. City of Madeira Beach, 300 Municipal Dr., Madeira Beach, FL 33708,

2. Cocoa Beach Public Library, 550 North Brevard Avenue, Cocoa Beach, FL 32931, and

3. North Carolina Aquarium, Roanoke Island, Airport Road, Manteo, NC 27954.

Written comments on the proposed rule or the Draft Environmental Assessment/Regulatory Impact Review/Initial Regulatory Flexibility Analysis (Draft EA/RIR/IRFA) may be submitted to Christopher Rogers, Chief, Highly Migratory Species Management Division:

• E-mail: 072704A@noaa.gov.

• Mail: 1315 East-West Highway, Silver Spring, MD 20910. Please mark the outside of the envelope “Comments on Proposed Rule for LCS and SCS Quota Adjustments.”

• Fax: 301-713-1917.

• Federal e-Rulemaking portal: http://www.regulations.gov. Include in the subject line the following identifier: I.D. 072704A.

Copies of the Draft EA/RIR/FRFA or Amendment 1 to the Fishery Management Plan for Atlantic Tunas, Swordfish, and Sharks or its implementing regulations, may be obtained by using the above mailing address, and are also available on the internet at http://www.nmfs.noaa.gov/sfa/hms.

FOR FURTHER INFORMATION CONTACT: Karyl Brewster-Geisz, Chris Rilling, or Mike Clark by phone: 301-713-2347 or by fax: 301-713-1917.

SUPPLEMENTARY INFORMATION: The Atlantic shark fishery is managed under the authority of the Magnuson-Stevens Fishery Conservation and Management Act. The Fisheries Management Plan for Atlantic Tunas, Swordfish, and Sharks (HMS FMP) and Amendment 1 to the HMS FMP are implemented by regulations at 50 CFR part 635. On September 17, 2004, NMFS published a proposed rule (69 FR 56024) that would adjust the regional and trimester quotas for Large Coastal Sharks (LCS) and Small Coastal Sharks (SCS) based on updated landings information, among other things. Complete descriptions of the measures, as well as the purpose and need for the proposed actions, are contained in the proposed rule and are not repeated here.

The September 17, 2004, proposed rule (69 FR 56024) specified, among other things, the dates, times, and locations of three public hearings. NMFS is concerned about a lack of participation by commercial shark fishermen because of an overlap between the dates of the hearings and the commercial shark fishing season that ends in the South Atlantic on September 30, 2004. Accordingly, NMFS is canceling and rescheduling the public hearings. The hearing previously scheduled for September 28, 2004, in Manteo, NC, has been canceled and rescheduled for October 7, 2004, in Manteo, NC. The hearing previously scheduled for September 29, 2004, in Cocoa Beach, FL, has been canceled and rescheduled for October 6, 2004, in Cocoa Beach, FL. The hearing previously scheduled for September 30, 2004, in Madeira Beach, FL, has been canceled and rescheduled for October 5, 2004, in Madeira Beach, FL (see DATES and ADDRESSES).

Special Accommodations

These meetings are physically accessible to people with disabilities. Requests for sign language interpretation or other auxiliary aids should be directed to Chris Rilling, (301) 713-2347, at least 7 days prior to the hearing in question.

Dated: September 16, 2004.
Bruce C. Morehead,
Acting Director, Office of Sustainable Fisheries, National Marine Fisheries Service.

[FR Doc. 04-21289 Filed 9-17-04; 2:38 pm]

BILLING CODE 3510-22-S